DEPARTMENT OF DEFENSE

Office of the Secretary

Board of Visitors Meeting

AGENCY: Defense Acquisition University.

ACTION: Board of Visitors meeting.

SUMMARY: The next meeting of the Defense Acquisition University (DAU) Board of Visitors (BoV) will be held at Defense Acquisition University, Fort Belvoir, VA. The purpose of this meeting is to report back to the BoV on continuing items of interest.

DATES: September 27, 2006 from 0900-1500.

ADDRESSES: Packard Conference Center, Defense Acquisition University, Bldg. 184, Fort Belvoir, VA 22060

FOR FURTHER INFORMATION CONTACT: Ms. Patricia Cizmadia at 703-805-5134.

SUPPLEMENTARY INFORMATION: The meeting is open to the public; however, because of space limitations, allocation of seating will be made on a first-come, first severed bsis. Persons desiring to attend the meeting should call Ms. Patricia Cizmadia at 703-805-5134.

Dated: September 12, 2006.
L.M. Bynum,
Alternate OSD Federal Register Liaison Officer, DoD.

[FR Doc. 06-7724 Filed 9-15-06; 8:45 am]

BILLING CODE 5001-06-M